DEPARTMENT OF COMMERCE

National Oceanic and Atmospheric Administration

[I.D. 0648-XB387]

North Pacific Fishery Management Council; Public Meeting

AGENCY: National Marine Fisheries Service (NMFS), National Oceanic and Atmospheric Administration (NOAA), Commerce.

ACTION: Notice of web conference.

SUMMARY: The North Pacific Fishery Management Council (Council) Groundfish Plan Teams will meet September 20, 2021 through September 24, 2021.

DATES: The meetings will be held on Monday, September 20, 2021 through Thursday, September 23, 2021, from 8 a.m. to 4 p.m., Alaska time. If necessary, the meetings will continue into Friday, September 24, 2021.

ADDRESSES: The meeting will be a web conference. Join online through the link at https://meetings.npfmc.org/Meeting/Details/2427.

Council address: North Pacific Fishery Management Council, 1007 W 3rd Ave., Anchorage, AK 99501-2252; telephone: (907) 271-2809. Instructions for attending the meeting are given under SUPPLEMENTARY INFORMATION, below.

FOR FURTHER INFORMATION CONTACT: Sara Cleaver, Council staff; phone: (907) 271-2809; email: sara.cleaver@noaa.gov or Steve MacLean, Council staff; email steve.maclean@noaa.gov. For technical support, please contact our administrative staff; email: npfmc.admin@noaa.gov.

SUPPLEMENTARY INFORMATION:

Agenda

Monday, September 20, 2021 Through Tuesday, September 21, 2021

The Bering Sea and Aleutian Islands (BSAI) and Gulf of Alaska (GOA) Groundfish Plan Teams will meet jointly to review and discuss issues of importance to both Plan Teams, including but not limited to: Bering Sea Fishery Ecosystem Plan, observer updates, Economic and Socioeconomic Profile update, Climate Fisheries Initiative, Ecosystem Status Report Climate update, Ecosystem surveys, Essential Fish Habitat, Economic Stock Assessment and Fishery Evaluation (SAFE), Bottom Trawl Surveys (BTS), Age Composition estimation, Random effects models, Assessment Risk Tables, Longline survey, and Sablefish assessment.

Wednesday, September 22, 2021 Through Thursday September 23, 2021

The BSAI Groundfish Plan Team will review stock assessment updates and reports on Arctic Regional Action Plan, Easter Bering Sea (EBS) Regional Action Plan, Alaska Climate Integrated Modeling (ACLIM), EBS Pacific cod, Aleutian Island (AI) Pacific cod, Survey sample design, BSAI Greenland turbot, Acoustic vessels of opportunity, EBS pollock, BSAI Atka mackerel, Blackspotted and Rougheye rockfish genetics and spatial management issues, and proposed specifications.

Wednesday, September 22, 2021 Through Thursday, September 23, 2021

The GOA Groundfish Plan Team will review stock assessment updates and reports on GOA Regional Action Plan, GOA ACLIM, GOA BTS, GOA BTS Design, Shelikof survey, Shelikof time series, GOA pollock, GOA Pacific ocean perch, GOA Other rockfish, Rockfish genetics, GOA rock sole, GOA Pacific cod, Pacific cod Economic and Socioeconomic Profile, and proposed specifications.

The agenda is subject to change, and the latest version will be posted at https://meetings.npfmc.org/Meeting/Details/2427 prior to the meeting, along with meeting materials.

Friday, September 24, 2021

The BSAI and GOA Groundfish Plan Teams will meet jointly or individually as necessary to complete discussion of the agenda items previously listed, and/or work on minutes.

Connection Information

You can attend the meeting online using a computer, tablet, or smartphone; or by phone only. Connection information will be posted online at: https://meetings.npfmc.org/Meeting/Details/2427.

Public Comment

Public comment letters should be submitted electronically via the electronic agenda at https://meetings.npfmc.org/Meeting/Details/2427.

Authority: 16 U.S.C. 1801 et seq.

Dated: August 30, 2021.
Tracey L. Thompson,
Acting Deputy Director, Office of Sustainable Fisheries, National Marine Fisheries Service.

[FR Doc. 2021-18994 Filed 9-1-21; 8:45 am]

BILLING CODE 3510-22-P